DEPARTMENT OF DEFENSE

Department of the Army

Proposed Collection; Comment Request

AGENCY: Office of the Administrative Assistant to the Secretary of the Army, (OAA-RPA), DoD.

ACTION: Notice.

In compliance with Section 350(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 6, 2005.

ADDRESSES: Written comments and recommendations on the proposed information collection should be sent to Department of the Army, Military Surface Deployment and Distribution Command, (SDDC), 661 Sheppard Place, Ft. Eustis, Virginia 23604. ATTN: (Ken Morrison, Fort Eustis, 757-878-8503). Consideration will be given to all comments received within 60 days of the day of publication of this notice.

FOR FURTHER INFORMATION CONTACT: To request more information on this proposed information collection or to obtain a copy of the proposal and associated collection instruments, please write to the above address, or call Department of the Army Reports Clearance Officer at (703) 602-0636.

Title, Associated Form, and OMB Number: Department of Defense Standards Tender of Freight, SDDC Form 364, OMB Control No. 0704-0261.

Type of Request: Extension.

Number of Respondents: 434

Responses per Respondent: 50.

Annual Responses: 21,563.

Average Burden Per Response: 15 minutes.

Annual Burden Hours: 5,391.

Need and Uses: The information derived from the DOD tenders on file with the Military Surface Deployment and Distribution Command (SDDC) is used by SDDC subordinate commands and D0D shippers to select the best value carriers to transport surface freight shipments. Freight carriers furnish information in a uniform format so that the Government can determine the cost of transportation, accessorial, and security services, and select the best value carriers for 1.1 million Bill of Lading shipments annually. The DoD tender rate and other pertinent tender data are noted on the Bill of Lading at the time of shipment. The DoD tender is the source document for the General Services Administration post-shipment audit of carrier freight bills.

Affected Public: Business or other for-profit.

Frequency: On occasion.

Respondents Obligation: Required to obtain or retain benefits.

SUPPLEMENTARY INFORMATION: The DoD tender format was developed to take advantage of improved information collection technology and to connect with ongoing initiatives to implement automated systems to file tenders, select carriers, quote rates, and audits. The disciplined data fields of the tenders will facilitate the Electronic Data Interchange of tender data between carriers and SDDC, also between SDDC subordinates commands and DoD shippers. This initiative ultimately will permit electronic filing of the tender and eliminate mailing paper documents, which are manually processed.

Dated: June 27, 2005.
Patricia L. Toppings,
Alternate OSD Federal Register Liaison Officer, Department of Defense.

[FR Doc. 05-13194 Filed 7-5-05; 8:45 am]

BILLING CODE 5001-06-M